SECURITIES AND EXCHANGE COMMISSION

Sunshine Act Meeting

Federal Register Citation of Previous Announcement: 68 FR 25071, May 9, 2003.

Status: Closed Meeting.

Place: 450 Fifth Street, NW., Washington, DC.

Announcement of Additional Meeting: Additional Meeting.

A Closed Meeting was held on Thursday, May 15, 2003 at 5:30 p.m.

Commissioner Goldschmid, as duty officer, determined that no earlier notice thereof was possible.

The subject matter of the Closed Meeting held on Thursday, May 15, 2003 was: Litigation Matter.

Commissioners, Counsel to the Commissioners, the Secretary to the Commission, and recording secretaries attended the Closed Meeting. Certain staff members who had an interest in the matter also attended the Closed Meeting.

At times, changes in Commission priorities require alterations in the scheduling of meeting items. For further information and to ascertain what, if any, matters have been added, deleted or postponed, please contact the Office of the Secretary at (202) 942-7070.

Dated: May 15, 2003.
Jonathan G. Katz,
Secretary.

[FR Doc. 03-12796 Filed 5-16-03; 4:10 pm]

BILLING CODE 8010-01-P